DEPARTMENT OF COMMERCE

National Oceanic and Atmospheric Administration

Hydrographic Services Review Panel Meeting

AGENCY: National Ocean Service, National Oceanic and Atmospheric Administration(NOAA), Department of Commerce.

ACTION: Notice of open public meeting.

SUMMARY: The Hydrographic Services Review Panel (HSRP) will hold a meeting that will be open to the public and public comments are requested in advance or during the meeting. Information about the HSRP meeting, agenda, presentations, webinar and background documents will be posted online at: http://www.nauticalcharts.noaa.gov/ocs/hsrp/meetings_seattle2017.htm.

DATES: The meeting is April 18-20, 2017. The agenda and times are subject to change. For updates, please check online at: http://www.nauticalcharts.noaa.gov/ocs/hsrp/meetings_seattle2017.htm.

Location: Downtown Seattle, Washington, with venue to be announced online at: http://www.nauticalcharts.noaa.gov/ocs/hsrp/meetings_seattle2017.htm.

FOR FURTHER INFORMATION CONTACT: Lynne Mersfelder-Lewis, HSRP program manager, National Ocean Service, Office of Coast Survey, NOAA (N/NSD), 1315 East-West Highway, SSMC3 #6301, Silver Spring, Maryland 20910; telephone: 301-713-2750 ext. 166; email: Lynne.Mersfelder@noaa.gov.

SUPPLEMENTARY INFORMATION: The meeting is open to the public, seating will be available on a first-come, first-served basis, and public comment is encouraged. There are public comment periods scheduled each day and noted in the agenda. Each individual or group making verbal comments will be limited to a total time of five (5) minutes and will be recorded. For those not onsite, comments can be submitted via the webinar or via email in writing. Individuals who would like to submit written statements in advance, during or after the meeting should email their comments to Lynne.Mersfelder@noaa.gov. The HSRP will provide webinar capability for the public sessions. Pre-registration is required to access the webinar. Additional information on the webinar will be posted and is available from Lynne.Mersfelder@noaa.gov or online at: http://www.nauticalcharts.noaa.gov/ocs/hsrp/meetings_seattle2017.htm.

The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice. The charter and other information are located online at: http://www.nauticalcharts.noaa.gov/ocs/hsrp/CharterBylawsHSIAStatute.htm. Past HSRP public meeting summary reports, agendas, presentations, transcripts, webinars, and other information is available online at: https://www.nauticalcharts.noaa.gov/ocs/hsrp/meetings.htm.

Matters To Be Considered: The panel is convening to hear federal, state, regional and local partners and stakeholders on issues relevant to NOAA's navigation services, focusing on the Pacific Northwest including the states of Washington and Oregon as well as national issues. Navigation services include the data, products, and services provided by the NOAA programs and activities that undertake geodetic observations, gravity modeling, shoreline mapping, bathymetric mapping, hydrographic surveying, nautical charting, tide and water level observations, current observations, and marine modeling. This suite of NOAA products and services support safe and efficient navigation, resilient coasts and communities, and the nationwide positioning information infrastructure to support America's commerce. The Panel will hear from state and federal agencies, non-federal organizations and partners about their missions and their use of NOAA's navigation services; what value these services bring; and what improvements could be made. Other administrative matters may be considered. The agenda is subject to change.

Special Accommodations: This meeting is physically accessible to people with disabilities. Please direct requests for sign language interpretation or other auxiliary aids to Lynne.Mersfelder@noaa.gov by April 3, 2017.

Dated: February 10, 2017.
Shepard Smith,
Director, Office of Coast Survey, National Ocean Service, National Oceanic and Atmospheric Administration.

[FR Doc. 2017-03934 Filed 2-28-17; 8:45 am]

BILLING CODE 3510-JE-P